DEPARTMENT OF COMMERCE

International Trade Administration

[A-552-802]

Certain Frozen Warmwater Shrimp from the Socialist Republic of Vietnam: Preliminary Results of the Second Five-Year Sunset Review of the Antidumping Duty Order

AGENCY: Enforcement and Compliance, International Trade Administration, Department of Commerce.

SUMMARY: On March 1, 2016, the Department of Commerce (“Department”) initiated the second sunset review of certain frozen warmwater shrimp from the Socialist Republic of Vietnam (“Vietnam”). The Department determined that it was appropriate to conduct a full review. The Department preliminarily finds that revocation of this antidumping duty order would be likely to lead to continuation or recurrence of dumping at the levels indicated in the “Preliminary Results of Review” section of this notice.

DATES: Effective September 15, 2016.

FOR FURTHER INFORMATION CONTACT: Irene Gorelik, AD/CVD Operations, Office V, Enforcement and Compliance, International Trade Administration, U.S. Department of Commerce, 14th Street and Constitution Avenue NW., Washington, DC 20230; telephone: 202-482-6905.

SUPPLEMENTARY INFORMATION:

Background

On March 1, 2016, the Department of Commerce (“Department”) initiated the second sunset review of certain frozen warmwater shrimp from the Socialist Republic of Vietnam (“Vietnam”) in accordance with section 751(c) of the Act.¹ The Department received notices of intent to participate from domestic interested parties, the Ad Hoc Shrimp Trade Action Committee (“AHSTAC”), and the American Shrimp Processors Association (“ASPA”), within the deadline specified in 19 CFR 351.218(d)(1)(i). The domestic interested parties claimed interested party status under section 771(9)(C) of the Act, as manufacturers of a domestic-like product in the United States.

¹ See Initiation of Five-Year (“Sunset”) Review, 81 FR 10578 (March 1, 2016) (“Initiation”).

The Department received substantive responses from domestic interested parties (AHSTAC and ASPA) and respondent interested parties (collectively “Vietnamese Respondents”) within the 30-day deadline specified in 19 CFR 351.218(d)(3)(i). On April 21, 2016, the Department determined that Vietnamese Respondents accounted for more than 50 percent of exports by volume of the subject merchandise and, therefore, submitted an adequate substantive response.² The Department also determined that domestic interested parties submitted an adequate response pursuant to 19 CRF 351.218(e)(1)(i). In accordance with 19 CFR 351.218(e)(2)(i), the Department determined to conduct a full sunset review of this antidumping duty order.

² See Memorandum to the File, from Irene Gorelik, Senior Analyst, Office V, re: “Adequacy Determination in Antidumping Duty Second Sunset Review of Certain Frozen Warmwater Shrimp from the Socialist Republic of Vietnam,” dated April 21, 2016.

Scope of the Order

The merchandise subject to the order is certain frozen warmwater shrimp. The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and for customs purposes, the written product description, available in the Prelim Decision Memo, remains dispositive.³

³ For a complete description of the Scope of the Order, see Memorandum to Paul Piquado, Assistant Secretary for Enforcement and Compliance, from Christian Marsh, Deputy Assistant Secretary for Antidumping and Countervailing Duty Operations, re: “Issues and Decision Memorandum for the Preliminary Results of Second Sunset Review of the Antidumping Duty Order on Certain Frozen Warmwater Shrimp from the Socialist Republic of Vietnam,” dated concurrently with this notice (“Preliminary Decision Memorandum”).

Analysis of Comments Received

All issues raised for the preliminary results of this sunset review are addressed in the Preliminary Decision Memorandum, dated concurrently with this notice. The issues discussed in the Preliminary Decision Memorandum are the likelihood of continuation or recurrence of dumping, and the magnitude of the margins of dumping likely to prevail if these orders were revoked. The Preliminary Decision Memorandum is a public document and is on file electronically via the Enforcement and Compliance's Antidumping and Countervailing Duty Centralized Electronic Service System (“ACCESS”). ACCESS is available to registered users at http://access.trade.gov and in the Central Records Unit, room B8024 of the main Department of Commerce building. In addition, a complete version of the Preliminary Decision Memorandum can be accessed directly on the internet at http://enforcement.trade.gov/frn/. The signed Preliminary Decision Memorandum and the electronic versions of the Preliminary Decision Memorandum are identical in content.

Preliminary Results of Review

Pursuant to section 752(c) of the Act, we determine that revocation of the antidumping duty order on certain frozen warmwater shrimp from Vietnam would be likely to lead to continuation or recurrence of dumping at weighted average margins up to 25.76 percent.

Interested parties may submit case briefs no later than 30 days after the date of publication of the preliminary results of this full sunset review, in accordance with 19 CFR 351.309(c)(1)(i). Rebuttal briefs, which must be limited to issues raised in the case briefs, may be filed not later than five days after the time limit for filing case briefs in accordance with 19 CFR 351.309(d). Any interested party may request a hearing within 30 days of publication of this notice in accordance with 19 CFR 351.310(c). A hearing, if requested, will be held two days after the date the rebuttal briefs are due. The Department will issue a notice of final results of this full sunset review, which will include the results of its analysis of issues raised in any such comments, no later than January 25, 2017.

This five-year (“sunset”) review and notice are in accordance with sections 751(c), 752(c), and 777(i)(1) of the Act and 19 CFR 351.218(f)(1).

Dated: September 9, 2016.
Christian Marsh,
Acting Assistant Secretary for Enforcement and Compliance.

Appendix I

List of Topics Discussed in the Preliminary Decision Memorandum

1. Summary

2. History of the Order

3. Background

4. Scope of the Order

5. Discussion of the Issues

a. Legal Framework

b. Likelihood of Continuation of Recurrence of Dumping

c. Magnitude of the Margin Likely to Prevail

6. Recommendation

[FR Doc. 2016-22224 Filed 9-14-16; 8:45 am]

BILLING CODE 3510-DS-P